DEPARTMENT OF AGRICULTURE

Submission for OMB Review; Comment Request

February 22, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by March 29, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: Your Perspective on Your Grasslands in the Northern Great Plains.

OMB Control Number: 0518-NEW.

Summary of Collection: The Agricultural Research Service within the Department of Agriculture will conduct a mail survey. This survey is a key component of a project that will provide comprehensive evaluation of the ecological and social benefits, cots and risks of different land management practices in northern Great Plains grasslands invaded by Kentucky bluegrass.

Need and Use of the Information: The survey will collect information from a randomly selected subset of landowners in 9 Counties in North Dakota to asses and identify sustainable management practices of northern Great Plains grasslands. The information gathered from the survey will enable researchers to more effectively transfer information to landowners to increase the impact of this research on the agricultural community of the norther Great Plains.

Description of Respondents: Individuals or households; Farms.

Number of Respondents: 718.

Frequency of Responses: Reporting: On occasion.

Total Burden Hours: 180.

Ruth Brown,
Departmental Information Collection Clearance Officer.

[FR Doc. 2019-03347 Filed 2-26-19; 8:45 am]

BILLING CODE 3410-03-P